DEPARTMENT OF THE INTERIOR

Bureau of Reclamation

Fish and Wildlife Service

Long-Term Environmental Water Account, San Francisco Bay/Sacramento-San Joaquin Delta, CA

AGENCY: Bureau of Reclamation and Fish and Wildlife Service, Interior.

ACTION: Notice of intent to prepare an environmental impact statement/environmental impact report (EIS/EIR) and notice of public scoping meetings.

SUMMARY: Pursuant to the National Environmental Policy Act (NEPA) and the California Environmental Quality Act (CEQA), the Bureau of Reclamation (Reclamation), the Fish and Wildlife Service (FWS), and the California Department of Water Resources (DWR) intend to prepare an EIS/EIR for implementing the Long-Term Environmental Water Account (EWA). Reclamation and the FWS are the joint lead Federal agencies and NOAA Fisheries is a cooperating agency. DWR is the lead State agency and the Department of Fish and Game (DFG) is the responsible agency and trustee agency. A Draft EIS/EIR is expected to be available December 2005.

The EWA has been established to provide water for the protection and recovery of fish beyond water available through existing regulatory actions related to the Central Valley Project/State Water Project (Project) operations. The EWA is a cooperative management program whose purpose is to provide protection to the fish of the Bay-Delta estuary through environmentally beneficial changes in project operations. This approach to fish protection requires the acquisition of alternative sources of Project water supply, called “assets,” which will be used to augment streamflows and Delta outflows, modify exports to provide fishery benefits, and repay the Project contractors whose supplies have been interrupted by actions taken to benefit fish. The period of analysis for the purposes of the EIS/EIR is through 2030.

DATES: A series of public scoping meetings will be held to solicit public input on alternatives, concerns, and issues to be addressed in the Long-Term EWA EIS/EIR as follows:

• Wednesday, March 9, 2005, 10 a.m., Sacramento, CA

• Thursday, March 10, 2005, 6 p.m. Fresno, CA

• Monday, March 14, 2005, 6 p.m. Red Bluff, CA

• Tuesday, March 15, 2005, 6 p.m. Tracy, CA

• Wednesday, March 23, 2005, 4 p.m. Los Angeles CA

Written comments on the scope of the EIS/EIR should be mailed to Reclamation at the address below by 30 days after the date of the last scoping meeting.

ADDRESSES: The public scoping meeting locations are:

• Sacramento at the Best Western Inn, 1413 Howe Avenue, Expo Room

• Fresno at the Fresno Radisson, 2233 Ventura Street, Salon D-2

• Red Bluff at the Red Bluff Community Center, 1500 Jackson Road, West Wing, Red Bluff

• Tracy at Anthony's Steak House and Banquet Room/VFW Hall, 430 West Grant Line Road

• Los Angeles at Metropolitan Water District, 700 N. Alameda Street, Room 1-102

Written comments on the scope of the EIS/EIR should be sent to Ms. Sammie Cervantes, Bureau of Reclamation, 2800 Cottage Way, Sacramento, CA 95825.

FOR FURTHER INFORMATION CONTACT: Ms. Cervantes at the above address or 916-978-5104, TDD 916-978-5608; or Ms. Delores Brown, Department of Water Resources, 3251 S Street, Sacramento, CA 95816 or 916-227-2407.

SUPPLEMENTARY INFORMATION: The CALFED Bay Delta Program is a long-term comprehensive plan to restore ecological health and improve water management for beneficial uses in the San Francisco Bay/Sacramento-San Joaquin Delta (Bay-Delta) estuary system. The agencies that signed the Record of Decision (ROD) for the Final Programmatic EIS/EIR on August 20, 2000, committed to implement the CALFED Bay-Delta Program. The EWA is one component of the long-term comprehensive plan adopted in the CALFED Bay-Delta Program ROD.

To achieve the program purpose, the long-term plan addresses problems of the Bay-Delta system within each of four resource categories: ecosystem quality, water quality, water supply reliability, and levee system integrity. CALFED agencies identified a need in the ROD for additional fisheries protection measures above and beyond the existing baseline regulatory measures to speed recovery of listed fish species. The establishment of the EWA was a key component of this additional protection.

The EWA is a cooperative management program involving five CALFED agencies that have responsibility for implementing the EWA. The FWS, NOAA Fisheries, and DFG, collectively referred to as the Management Agencies, have the primary responsibility for determining how to manage the EWA assets to benefit long-term survival of fish species, including those listed under State and Federal Endangered Species Acts. Reclamation and DWR, collectively referred to as the Project Agencies, work with the Management Agencies in administering the EWA, and are responsible for the following actions that may include, but are not limited to, acquiring, banking, borrowing, transferring, making operational changes, and arranging for the conveyance of EWA assets.

Current Activities

Reclamation, DWR, FWS, NOAA Fisheries, and DFG, collectively referred to as the EWA Agencies, completed the Final EWA EIS/EIR for the Short-Term EWA in January 2004. The March 2004 ROD and Notice of Determination for the Short-Term EIS/EIR documented the decision to implement the preferred alternative termed the Flexible Purchase Alternative. The Flexible Purchase Alternative allows the EWA Agencies to purchase up to 600,000 acre-feet of water to use for fish actions through the following acquisition and management methods: (1) Delta operations: altering Delta Project operations, when environmental conditions allow, to export additional water (also called variable assets); (2) Water purchases: purchasing water from willing sellers both upstream from the Delta and within the Export Service Area; (3) Water storage: purchasing stored water from the Export Service Area sources to be used as collateral for borrowing (released only when all other assets have been expended), and to function as long-term storage space after the water has been released; (4) Source shifting: delaying delivery of water to a Project contractor, who would use water from an alternative source until the water is paid back; and (5) Exchanges: the Project Agencies may exchange EWA assets for assets of character, such as location, seasonality, or year-type, more suitable to EWA purposes. The September 2004 ROD and March 2004 Notice of Determination for the Short-Term EIS/EIR documented the decision to implement the Flexible Purchase Alternative through December 31, 2007.

Alternative Measures

The Long-Term EWA EIS/EIR will focus on alternative strategies for obtaining assets through 2030. The asset acquisition and management tools described in the Short-Term EWA EIS/EIR will be expanded in the Long-Term EWA EIS/EIR to include source shifting and purchase of stored reservoir water from additional reservoirs, groundwater substitution and banking in additional counties, crop idling in additional counties, as well as idling different crops. The alternative formulation process will also include evaluating permanent land idling, conservation, recycled water, and desalination as methods for acquiring assets.

If special assistance is required at the scoping meetings, contact Ms. Sammie Cervantes, Reclamation, at 916-989-5104. Please notify Ms. Cervantes as far in advance of the meetings as possible to enable Reclamation to secure the needed services. If a request cannot be honored, the requestor will be notified. A telephone device for the hearing impaired (TDD) is available at 916-978-5608.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: February 15, 2005.
Michael Nepstad,
Deputy Regional Environmental Officer, Mid-Pacific Region, Bureau of Reclamation.
Dated: February 15, 2005.
Wayne White,
Field Supervisor, Sacramento Fish and Wildlife Office, Fish and Wildlife Service.

[FR Doc. 05-3277 Filed 2-18-05; 8:45 am]

BILLING CODE 4310-MN-P